DEPARTMENT OF VETERANS AFFAIRS

[OMB Control No. 2900-0579]

Agency Information Collection (Request for Vocational Training Benefits—Certain Children of Vietnam Veterans): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 20, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0579” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0579” in any correspondence.

SUPPLEMENTARY INFORMATION: Title: Request for Vocational Training Benefits—Certain Children of Vietnam Veterans, 38 CFR 21.8014.

OMB Control Number: 2900-0579.

Type of Review: Extension of a currently approved collection.

Abstract: Vietnam Veterans' children born with certain birth defects may submit a written claim to request participation in a vocational training program. In order for VA to relate the claim to other existing VA records, applicants must provide identifying information about themselves and the natural parent who served in Vietnam. The information collected will allow VA counselors to review existing records and to schedule an appointment with the applicant to evaluate the claim.

An agency may not conduct or sponsor, and a person is not required to respond to a collection of information unless it displays a currently valid OMB control number. The Federal Register Notice with a 60-day comment period soliciting comments on this collection of information was published on August 29, 2014, at page 51653-51654.

Affected Public: Individuals or households.

Estimated Annual Burden: 15 hours.

Estimated Average Burden per Respondent: 15 minutes.

Frequency of Response: One-time.

Estimated Number of Respondents: 60.

Dated: December 15, 2014.
By direction of the Secretary:
Crystal Rennie,
VA Clearance Officer, Department of Veterans Affairs.

[FR Doc. 2014-29684 Filed 12-18-14; 8:45 am]

BILLING CODE 8320-01-P